ENVIRONMENTAL PROTECTION AGENCY

[ER-FRL-6626-1]

Environmental Impact Statements; Notice of Availability

Responsible Agency: Office of Federal Activities, General Information (202) 564-7167 or www.epa.gov/oeca/ofa.Weekly receipt of Environmental Impact Statements Filed January 21, 2002 Through January 25, 2002 Pursuant to 40 CFR 1506.9.

EIS No. 020031, Draft EIS, FHW, LA, Bayou Barataria Bridge/LA-302 Replacement, LA-45/Jean Lafitte Boulvard to LA-3257/Privateer Boulvard, Funding and US Army COE Section 404 and US Coast Guard Bridge Permits Issuance, Communities of Jean Lafitte and Barataria, Jefferson Parish, LA, Comment Period Ends: March 18, 2002, Contact: William C. Farr (225) 757-7615

EIS No. 020032, Draft Supplement, GSA, CA, San Diego-United States Courthouse Annex Project, Site Selection and Construction, New Information concerning Addition of the Union Street with Hotel San Diego Facade and Lobby Alternative, Central Business District (CBD), City of San Diego, San Diego County, CA, Comment Period Ends: March 18, 2002, Contact: Rosanne Nieto (415) 522-3490

EIS No. 020033, Final EIS, COE, NJ, Great Egg Harbor Inlet to Townsends Inlet, Storm Damage Reduction for Ocean City and Ludlam Island Utilizing Beachfill to Construct a Protective Berm and Dune, City of Ocean City, Strathmere (Township of Upper), City of Sea Isle City, Cape May County, NJ, Wait Period Ends: March 04, 2002, Contact: Robert L. Callegari (215) 656-6555

EIS No. 020034, Final EIS, GSA, NY, U.S. Mission to the United Nations (USUN), Demolition of Current USUN and the Construction of a New Facility on the Same Site, Located at 799 United Nations Plaza, New York, NY, Wait Period Ends: March 04, 2002, Contact: Peter Sneed (212) 264-3581

EIS No. 020035, Final EIS, AFS, OK, Quachita National Forest, An Amendment to the Land and Resource Management Plan, Implementation, Glover River, McCurtain County, OK, Wait Period Ends: March 04, 2002, Contact: Bill Pell (501) 321-5320

EIS No. 020036, Draft EIS, BLM, NV, Table Mountain Wind Generating Facility Project, Construction of a 150 to 205 Megawatt (MW) Wind Powered Electric Generation Facility and Ancillary Facilities, Right-of-Way Grant, Spring Mountain Range between the Communities of Good Springs, Sandy Valley, Jean and Primm, Clark County, NV, Comment Period Ends: April 01, 2002, Contact: Jerry Crockford (505) 599-6333

EIS No. 020037, Draft EIS, AFS, OR, CA, Programmatic—Siskiyou National Forest Suction Dredging Activities, Operating Plan Terms and Conditions Approval, Coos, Curry and Josephine Counties, OR and Del Norte County, CA, Comment Period Ends: March 18, 2002, Contact: Roger Mendenhall (541) 471-6521. This document is available on the Internet at: http://www.fs.fed.us.r6/siskiyou

EIS No. 020038, Draft EIS, FHW, MI, M-15 Reconstruction, I-75 to I-69, Funding and NPDES and US Army COE Section 404 Permits Issuance, Oakland and Genesse Counties, MI, Comment Period Ends: April 29, 2002, Contact: Ronald Kinney (517) 335-2621. This document is available on the Internet at: http://www.mdot.state.mi.us/m15/

EIS No. 020039, Draft EIS, JUS, CA, 14-Mile Border Infrastructure System Completion along the United States and Mexico Border, Areas I, V and VI, Pacific Ocean to just east of Tin Can Hill, San Diego County, CA, Comment Period Ends: April 01, 2002, Contact: Russell R. D'Hondt (202) 305-4386

EIS No. 020040, Final EIS, DOE, OR, Umatilla Generating Project, Construction and Operation, Gas-Fired Combined Cycle Electric Power Generation Plant, Nominal Generation Capacity of 550 megawatts (MW) Connection to the Regional Grid at McNary Substation, Umatilla County, AZ, Wait Period Ends: March 04, 2002, Contact: Inez Graetzer (503) 230-3786. This document is available on the Internet at: http://www.efw.bpa.gov

EIS No. 020041, Final SUPPLEMENT, NRC, Generic—license Renewal of Nuclear Power Plants, Supplement 5, Turkey Point Units 3 and 4 (NUREG-1437), Operating License Renewal, Biscayne Bay, Miami-Dade County, FL, Wait Period Ends: March 04, 2002, Contact: Dr. Michael T. Masnik (301) 415-1191

Amended Notices

EIS No. 010532, Draft EIS, AFS, IL, Natural Area Trails Project, Construction, Reconstruction, Maintenance and Designation of Trails for Hikers and Equestrian Use, Approval of Site-Specific Mitigation and/or Monitoring Standards, Shawnee National Forest, Jackson, Pope, Johnson, Union, Hardin and Saline Counties, IL, Comment Period Ends: March 11, 2001, Contact: Richard Johnson (618) 658-2111. Revision of FR notice published on 12/31/2001: CEQ Comment Period Ending 02/11/2002 has been Corrected to 03/11/2002

EIS No. 020017, Draft EIS, BLM, WY, Powder River Basin Oil and Gas Project, To Extract, Transport, and Sell Oil and Natural Gas Resource, Application of Permit to Drill (APD), Special Use Permit and Right-of-Way Grant, Campbell, Converse, Johnson and Sheridan Counties, WY, Due: April 18, 2002, Contact: Paul Beels (307) 684-1100. Published FR 01-18-02—Correction to Web site Address. This document is available on the Internet at: http://www.prb-eis.org

Dated: January 29, 2002.
B. Katherine Biggs,
Associate Director, NEPA Compliance Division, Office of Federal Activities.

[FR Doc. 02-2524 Filed 1-31-02; 8:45 am]

BILLING CODE 6560-50-P